DEPARTMENT OF COMMERCE

National Oceanic and Atmospheric Administration

Agency Information Collection Activities; Submission to the Office of Management and Budget (OMB) for Review and Approval; Comment Request; Coral Reef Conservation Program

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on March 22, 2021 (86 FR 15204) during a 60-day comment period. This notice allows for an additional 30 days for public comments.

Agency: National Oceanic & Atmospheric Administration (NOAA), Commerce.

Title: Coral Reef Conservation Program.

OMB Control Number: 0648-0448.

Form Number(s): None.

Type of Request: Regular (Revision and extension of current information collection).

Number of Respondents: 65.

Average Hours per Response: Matching funds waiver request: 2 hours; Reviewer Comments: 3 hours; Semi-Annual Progress Reports: 10 hours.

Total Annual Burden Hours: 1,437 hours.

Needs and Uses: This request is for revision and extension of a currently approved information collection.

The Coral Reef Conservation Act of 2000 (16 U.S.C. 6401 et seq.) was enacted on December 14, 2000, to preserve, sustain and restore the condition of coral reef ecosystems; to promote the wise management and sustainable use of coral reef ecosystems to benefit local communities and the Nation; to develop sound scientific information on the condition of coral reef ecosystems and the threats to such ecosystems; to assist in the preservation of coral reefs by supporting conservation programs, including projects that involve affected local communities and non-governmental organizations; to provide financial resources for those programs and projects; and to establish a formal mechanism for the collecting and allocating of monetary donations from the private sector to be used for coral reef conservation projects. Under section 6403 of the Act, the Secretary, through the NOAA Administrator (Administrator) and subject to the availability of funds, is authorized to provide matching grants of financial assistance for coral reef conservation projects. Section 408(c) of the Act authorizes at least $8,000,000 annually for financial assistance projects under the Program.

Collection activities for this program are outlined below and include: 1. Applicant creation and submission of requests for waivers of the non-Federal matching funds requirement; 2. Review of project proposals by Federal Agencies and non-Federal entities with jurisdiction or management authority over coral reef ecosystems in the area where the project is to be conducted; and 3. Revision of performance reporting methods to include a standard program-specific template and tracking report.

As per section 6403(b) of the Act, NOAA will require that Federal funds for any coral conservation financial assistance project may not exceed 50 percent of the total cost. However, the Administrator may waive all or part of the matching requirement if the Administrator determines that no reasonable means are available through which an applicant can meet the matching requirement and the probable benefit of the project outweighs the public interest in the matching requirement. The suitability for a waiver is determined after the applicant has submitted a written request with the application package and provided the proper justification.

As per section 6403(f) of the Act, NOAA will review eligible coral reef conservation proposals using an external governmental review and merit-based peer review. As part of this review, NOAA will request and consider written comments on the proposal from each Federal agency, state government, or other government jurisdiction, including the relevant regional Fishery Management Councils established under the Magnuson-Stevens Fishery Conservation and Management Act (16 U.S.C. 1801 et seq.), or any National Marine Sanctuary, with jurisdiction or management authority over coral reef ecosystems in the area where the project is to be conducted. Pursuant to this requirement of the Act, NOAA will apply the following standard in requesting comments: (A) Proposals for projects in state or territorial waters, including Federal marine protected areas in such waters (e.g., National Marine Sanctuaries), will be submitted to that state or territorial government's designated U.S. Coral Reef Task Force point of contact for comment; (B) proposals for projects in Federal waters will be submitted to the relevant Fishery Management Council for comment; (C) proposals for projects which require Federal permits will be submitted to the Federal agency which issued the permit for comment; (D) proposals for projects in Federal marine protected areas managed by Federal agencies (e.g., National Wildlife Refuges, National Parks, National Marine Sanctuaries, etc.) will be submitted to the respective Federal management authority for comment; and (E) NOAA will seek comments from other government entities, authorities, and/or jurisdictions, including international entities for projects proposed outside of U.S. waters, as necessary based on the nature and scope of the proposed project.

As per 2 CFR part 200.329, all recipients of non-construction federal financial assistance awards are required to provide performance (technical) reports to the agency at intervals no less frequently than annually and no more frequently than quarterly in order for the agency to properly monitor the award and meet oversight responsibilities. The awarding agency must use OMB-approved common forms for this purpose or seek permission for program-specific forms that will collect the required data elements. The Coral Reef Conservation Program seeks OMB approval to revise this information collection to require use of a program-specific form for semi-annual reporting and tracking specific indicators. These indicators align with the new Coral Reef Conservation Program Strategic Plan (2018; https://www.coris.noaa.gov/activities/strategic_plan2018) and will be used to track national progress toward these strategic goals through 2040. The program-specific form for semi-annual reporting will be a revised version of what is currently in use for NOAA's Marine Debris Program and will standardize reporting across projects.

The number of respondents, responses, and burden hours have been corrected from the previous submission. The previous submission included federal employees and contractors working on behalf of NOAA as part of the burden for the collection. This burden has been removed and is instead added to the cost to the federal government.

Affected Public: Business or other for-profit organizations; Not-for-profit institutions; State or Local Government; Federal government.

Frequency: Semi Annual to Annual.

Respondent's Obligation: Required to obtain or retain benefits.

Legal Authority: Coral Reef Conservation Act of 2000 (16 U.S.C. 6401 et seq.).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0448.

Sheleen Dumas,
Department PRA Clearance Officer, Office of the Chief Information Officer, Commerce Department.

[FR Doc. 2021-14002 Filed 6-29-21; 8:45 am]

BILLING CODE 3510-JE-P